DEPARTMENT OF HEALTH AND HUMAN SERVICES

National Institutes of Health

National Institute on Drug Abuse; Amended Notice of Meeting

Notice is hereby given of a change in the meeting of the National Institute on Drug Abuse Special Emphasis Panel, November 8, 2023, 10:00 a.m. to November 8, 2023, 5:00 p.m., National Institute on Drug Abuse, 301 North Stonestreet Avenue, Bethesda, MD 20892 which was published in the Federal Register on October 3, 2023, FR Doc. 2023-21775, 88-FR 68128. This notice is being amended to change the meeting contact person from Dr. Preethy Nayar to Dr. Jenny Raye Browning, Scientific Review Officer, Scientific Review Branch, Division of Extramural Research, National Institute on Drug Abuse, NIH, (301) 443-4577, jenny.browning@nih.gov. The meeting date, time and location will remain the same. The meeting is closed to the public.

Dated: October 4, 2023.
Tyeshia M. Roberson-Curtis,
Program Analyst, Office of Federal Advisory Committee Policy.

[FR Doc. 2023-22444 Filed 10-10-23; 8:45 am]

BILLING CODE 4140-01-P